DEPARTMENT OF DEFENSE

Department of the Air Force

Supplemental Notice of Intent To Prepare an Environmental Impact Statement for the Implementation of the Base Closure and Realignment (BRAC) 2005 Decisions and Related Actions at Eglin Air Force Base (AFB), FL

AGENCY: Department of the Air Force.

ACTION: Supplemental Notice of Intent (NOI).

SUMMARY: This supplemental NOI is being issued pursuant to the National Environmental Policy Act (NEPA) of 1969, as amended (42 United States Code 4321, et seq.), the Council on Environmental Quality Regulations for implementing procedural provisions of NEPA (40 Code of Federal Regulation (CFR) parts 1500-1508), and Air Force policy and procedures (32 CFR part 989). This supplemental NOI is issued to advise the public that the Air Force intends to further publicly scope information necessary to complete preparation of an EIS for the proposed BRAC activities at Eglin AFB, FL.

This supplements the initial NOI which appeared in the Federal Register July 28, 2006 [Federal Register: July 28, 2006 (Volume 71, Number 145), page 42838-42839].

In the year since the initial NOI was published and initial scoping meetings were held, the Air Force has developed additional information that bears on the proposal and its impacts. The Air Force will present this additional information to the public and solicit comments. Public input is important to determining the scope of issues to be addressed and for identifying significant issues that were not known when the initial NOI was published.

The supplemental scoping meetings will be held in a “Town Hall” format allowing interested parties to review information and related materials. Oral and written comments presented at the public meetings, as well as written comments received by the Air Force throughout the EIS process, will be considered and made a part of the administrative record.

All the information and comments gathered in response to the initial NOI remain in the record, and there is no need to repeat information submitted at that time.

DATES: The BRAC scoping update meetings will be held as follows:

November 6, 2007, 6:30-9:30 p.m.; Comfort Inn Conference Center, 8700 Navarre Parkway, Navarre, FL 32566, and November 7, 2007, 6:30-9:30 p.m.; Niceville High School, 800 E. John Sims Parkway, Niceville, FL 32578.

FOR FURTHER INFORMATION CONTACT: Please direct any written comments or requests for information to Mr. Michael Spaits, Public Affairs, 96 CEV-PA, Eglin AFB, FL 32542-5000 (PH: 850-882-2878; mike.spaits@eglin.af.mil).

Bao-Anh Trinh,
Air Force Federal Register Liaison Officer.

[FR Doc. E7-20278 Filed 10-12-07; 8:45 am]

BILLING CODE 5001-05-P